DEPARTMENT OF TRANSPORTATION

Federal Aviation Administration

14 CFR Part 39

[Docket No. FAA-2008-1319; Directorate Identifier 2008-CE-071-AD; Amendment 39-15836; AD 2009-05-12]

RIN 2120-AA64

Airworthiness Directives; Cessna Aircraft Company Models 208 and 208B Airplanes

AGENCY: Federal Aviation Administration (FAA), Department of Transportation (DOT).

ACTION: Final rule.

SUMMARY: We are adopting a new airworthiness directive (AD) for certain Cessna Aircraft Company (Cessna) Models 208 and 208B airplanes. This AD requires you to modify the aileron carry-through cable attachment to the aileron upper quadrant with parts of improved design. This AD results from reports of a “catch” in the aileron control system when the control yoke is turned. We are issuing this AD to prevent the cable attach fitting on the aileron upper quadrant assembly from rotating and possibly contacting or interfering with the aileron lower quadrant assembly, which could result in limited roll control and reduced handling capabilities.

DATES: This AD becomes effective on April 15, 2009.

On April 15, 2009, the Director of the Federal Register approved the incorporation by reference of certain publications listed in this AD.

ADDRESSES: For service information identified in this AD, contact Cessna Aircraft Company, P.O. Box 7704, Wichita, Kansas 67277; telephone: (800) 423-7762 or (316) 517-6056; Internet: http://www.cessna.com.

To view the AD docket, go to U.S. Department of Transportation, Docket Operations, M-30, West Building Ground Floor, Room W12-140, 1200 New Jersey Avenue, SE., Washington, DC 20590, or on the Internet at http://www.regulations.gov. The docket number is FAA-2008-1319; Directorate Identifier 2008-CE-071-AD.

FOR FURTHER INFORMATION CONTACT: Ann Johnson, Aerospace Engineer, FAA, Wichita Aircraft Certification Office, 1801 Airport Road, Room 100, Wichita, Kansas 67209; telephone: 316-946-4105; fax: 316-946-4107; e-mail address: ann.johnson@faa.gov.

SUPPLEMENTARY INFORMATION:

Discussion

On December 12, 2008, we issued a proposal to amend part 39 of the Federal Aviation Regulations (14 CFR part 39) to include an AD that would apply to certain Cessna Models 208 and 208B airplanes.This proposal was published in the Federal Register as a notice of proposed rulemaking (NPRM) on December 18, 2008 (73 FR 76979). The NPRM proposed to require you to modify the aileron carry-through cable attachment to the aileron upper quadrant with parts of improved design.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 794 airplanes in the U.S. registry.

We estimate the following costs to do the modification:

Labor cost | Parts cost | Total cost per airplane | Total cost on U.S. operators
2 work-hours × $80 per hour = $160 | Not applicable | $160 | $127,040

We estimate the following costs to do any necessary repairs and replacements that will be required based on doing the modification. We have no way of determining the number of airplanes that may need these repairs or replacements.

We estimate the following costs to do possible damage repair to the aileron lower quadrant assembly, if necessary:

Labor cost | Parts cost | Total cost per airplane
.5 work-hour × $80 per hour = $40 | Not applicable | $40

We estimate the following costs to do possible removal and installation of the aileron lower quadrant assembly, if necessary:

Labor cost | Parts cost | Total cost per airplane
2 work-hours × $80 per hour = $160 | Not applicable | $160

We estimate the following costs to do possible removal and installation of the headliner, if necessary:

Labor cost | Parts cost | Total cost per airplane
16 work-hours × $80 per hour = $1,280 | Not applicable | $1,280

Warranty credit will be given for parts and labor to the extent specified in the manufacturer's service bulletin.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2008-1319; Directorate Identifier 2008-CE-071-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2009-05-12 Cessna Aircraft Company: Amendment 39-15836; Docket No. FAA-2008-1319; Directorate Identifier 2008-CE-071-AD.

Effective Date

(a) This AD becomes effective on April 15, 2009.

Affected ADs

(b) None.

Applicability

(c) This AD applies to the following airplane models and serial numbers that are certificated in any category:

Model | Serial Nos.
208 | 20800001 through 20800415 and 20800417 through 20800419.
208B | 208B0001 through 208B1081, 208B1083 through 208B1215, 208B1217 through 208B1257, 208B1259 through 208B1305, 208B1307, and 208B1309 through 208B1310.

Unsafe Condition

(d) This AD results from reports of a “catch” in the aileron control system when the control yoke is turned. We are issuing this AD to prevent the cable attach fitting on the aileron upper quadrant assembly from rotating and possibly contacting or interfering with the aileron lower quadrant assembly, which could result in limited roll control and reduced handling capabilities.

Compliance

(e) To address this problem, you must do the following, unless already done:

Actions | Compliance | Procedures
Modify the aileron carry-through cable attachment to the aileron upper quadrant with parts of improved design | Within the next 100 hours time-in-service after April 15, 2009 (the effective date of this AD) or within the next 6 months after April 15, 2009 (the effective date of this AD), whichever occurs first | Follow the Accomplishment Instructions in Cessna Caravan Service Bulletin CAB08-6, dated October 27, 2008.

Alternative Methods of Compliance (AMOCs)

(f) The Manager, Wichita Aircraft Certification Office (ACO), FAA, has the authority to approve AMOCs for this AD, if requested using the procedures found in 14 CFR 39.19. Send information to ATTN: Ann Johnson, Aerospace Engineer, FAA, Wichita Aircraft Certification Office, 1801 Airport Road, Room 100, Wichita, Kansas 67209; telephone: 316-946-4105; fax: 316-946-4107; e-mail address: ann.johnson@faa.gov. Before using any approved AMOC on any airplane to which the AMOC applies, notify your appropriate principal inspector (PI) in the FAA Flight Standards District Office (FSDO), or lacking a PI, your local FSDO.

Material Incorporated by Reference

(g) You must use Cessna Caravan Service Bulletin CAB08-6, dated October 27, 2008, to do the actions required by this AD, unless the AD specifies otherwise.

(1) The Director of the Federal Register approved the incorporation by reference of this service information under 5 U.S.C. 552(a) and 1 CFR part 51.

(2) For service information identified in this AD, contact Cessna Aircraft Company, P.O. Box 7704, Wichita, Kansas 67277; telephone: (800) 423-7762 or (316) 517-6056; Internet: http://www.cessna.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on February 27, 2009.
John Colomy,
Acting Manager, Small Airplane Directorate, Aircraft Certification Service.

[FR Doc. E9-4828 Filed 3-10-09; 8:45 am]

BILLING CODE 4910-13-P